ENVIRONMENTAL PROTECTION AGENCY

40 CFR Part 180

[EPA-HQ-OPP-2012-0439; FRL-9364-3]

Receipt of Several Pesticide Petitions Filed for Residues of Pesticide Chemicals in or on Various Commodities; Correction

AGENCY: Environmental Protection Agency (EPA).

ACTION: Notice of filing of pesticide petition; correction.

SUMMARY: EPA issued a notice in the Federal Register of Wednesday, July 25, 2012, concerning Pesticide Petition (PP) 2F8026, which requests to establish tolerances for residues of the herbicide pyroxasulfone and its metabolites in or on wheat (grain, straw, forage, and hay). This document corrects a typographical error.

FOR FURTHER INFORMATION CONTACT: Michael Walsh, Registration Division (7505P), Office of Pesticide Programs, Environmental Protection Agency, 1200 Pennsylvania Ave. NW., Washington, DC 20460-0001; telephone number: (703) 308-2972; email address: walsh.michael@epa.gov.

SUPPLEMENTARY INFORMATION:

I. General Information

A. Does this action apply to me?

The Agency included in the notice a list of those who may be potentially affected by this action.

B. How can I get copies of this document and other related information?

The docket for this action, identified by docket identification (ID) number EPA-HQ-OPP-2012-0439, is available at http://www.regulations.gov or at the Office of Pesticide Programs Regulatory Public Docket (OPP Docket) in the Environmental Protection Agency Docket Center (EPA/DC), EPA West Bldg., Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. What does this correction do?

The preamble for FR Doc. 2012-17899, published in the Federal Register of Wednesday, July 25, 2012 (77 FR 43562) (FRL-9353-6), is corrected as follows: On page 43565, second column, first full paragraph, item “13.,” line 24, correct “wheat, grain at 0.6 ppm” to read “wheat, straw at 0.6 ppm.”

List of Subjects

Environmental protection, Agricultural commodities, Feed additives, Food additives, Pesticides and pests, Reporting and recordkeeping requirements.

Dated: September 21, 2012.
Daniel J. Rosenblatt,
Acting Director, Registration Division, Office of Pesticide Programs.

[FR Doc. 2012-23979 Filed 9-27-12; 8:45 am]

BILLING CODE 6560-50-P